DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for the Transbay Joint Powers Authority Transbay Terminal/Caltrain Downtown Extension/Redevelopment Project. The purpose of this notice is to announce publicly the environmental decisions by FTA on the subject project and to activate the limitation on any claims that may challenge these final environmental actions.

DATES: By this notice, FTA is advising the public of final agency actions subject to 23 U.S.C. 139(l). A claim seeking judicial review of FTA actions announced herein for the listed public transportation project will be barred unless the claim is filed on or before January 13, 2020.

FOR FURTHER INFORMATION CONTACT: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation project listed below. The actions on the project, as well as the laws under which such actions were taken, are described in the documentation issued in connection with the project to comply with the National Environmental Policy Act (NEPA) and in other documents in the FTA environmental project file for the project. Interested parties may contact either the project sponsor or the relevant FTA Regional Office for more information. Contact information for FTA's Regional Offices may be found at https://www.fta.dot.gov.

This notice applies to all FTA decisions on the listed project as of the issuance date of this notice and all laws under which such actions were taken, including, but not limited to, NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The project and actions that are the subject of this notice follow: Project name and location: The Transbay Joint Powers Authority Transbay Terminal/Caltrain Downtown Extension/Redevelopment Project, in San Francisco, California. Project Sponsor: The Transbay Joint Powers Authority. Project description: The Transbay Terminal/Caltrain Downtown Extension/Redevelopment Project, also known as the Transbay Program, as adopted in 2004, includes the Downtown Rail Extension (DTX), the establishment of a redevelopment area plan, and the construction of the Transit Center on the site of the former Transbay Terminal at First and Mission Streets, which was demolished in 2011. The purpose of the Transbay Program is to improve public access to bus and rail services, modernize the Transbay Terminal and improve service, reduce non-transit vehicle usage, alleviate blight, and revitalize the Transbay Terminal area. The proposed project is to design, construct, and operate the downtown rail extension, redevelopment area plan and transit center along with the specified refinements to the previously approved Phase 2 of the Transbay Program and other transportation improvements within the City and County of San Francisco. The decisions and determinations made in the 2005 Record of Decision (ROD) remain unaltered, except as expressly altered by this amended ROD.

Final agency action: The Transbay Joint Powers Authority Transbay Terminal/Caltrain Downtown Extension/Redevelopment Project Amended Record of Decision, dated July 22, 2019. Supporting Documentation: FTA's Transbay Program Final Environmental Impact Statement/Environmental Impact Report, April 2004; FTA's Transbay Program Record of Decision, February 2005; FTA's Transbay Terminal/Caltrain Downtown Extension/Redevelopment Project Draft Supplemental Environmental Impact Statement/Environmental Impact Report (SEIS/EIR), December 2015; FTA's Transbay Terminal/Caltrain Downtown Extension/Redevelopment Project Final SEIS/EIR, November 2018.

Authority: 23 U.S.C. 139(l)(1).

Felicia L. James,
Associate Administrator for Planning and Environment.

[FR Doc. 2019-17412 Filed 8-13-19; 8:45 am]

BILLING CODE 4910-57-P